DEPARTMENT OF THE INTERIOR

Bureau of Land Management

[LLOR-936000-L14300000-FQ0000; HAG-09-0002; WAOR-22197 K]

Public Land Order No. 7752; Partial Revocation of a Light Station Reservation; Washington

AGENCY: Bureau of Land Management, Interior.

ACTION: Public land order.

SUMMARY: This order partially revokes the withdrawal created by an Executive Order insofar as it affects approximately 37.32 acres of public land reserved for use by the United States Coast Guard for lighthouse purposes.

DATES: Effective Date: September 28, 2010.

FOR FURTHER INFORMATION CONTACT: Charles R. Roy, BLM Oregon/Washington State Office, P.O. Box 2965, Portland, Oregon 97208-2965, 808-952-6189.

SUPPLEMENTARY INFORMATION: The land is no longer needed for the purpose for which it was reserved. Approximately 1 acre has been determined to be unsuitable for return to the public domain and will be reported along with the improvements to the General Services Administration as excess property. The surface estate of the remaining 36.32 acres has been previously transferred out of Federal ownership and this is a record clearing action only on that portion.

Order

By virtue of the authority vested in the Secretary of the Interior by Section 204 of the Federal Land Policy and Management Act of 1976, 43 U.S.C. 1714, it is ordered as follows:

The reservation of public land for the Lime Kiln Light Station created by an Executive Order dated July 15, 1875, is hereby revoked insofar as it affects the following described land:

(a) The following described land has been determined unsuitable for return to the public domain, and for disposition under the public land, mining, or mineral leasing laws:

Willamette Meridian

T. 35 N., R. 4 W.,

Sec. 23, Portion of lot 3, commencing at the Meander Corner of the East line of said section 23 which lies 387.5 feet more or less South 0° 12´ West from the one quarter of said section 23; Thence North 0° 12´ East 1140 feet along the East line of said section 23 to a point; Thence North 89° 48´ West 1030 feet to the true point of beginning; Thence North 89° 48´ West 35 feet more or less to the high water-line of Haro Straight; Thence Southerly and Easterly along the said high water-line to a point which bears due South of the true point of beginning; Thence North 400 feet more or less to the true point of beginning.

The area described contains approximately 1 acre, more or less, in San Juan County.

(b) The surface estate of the following described land has been previously conveyed from Federal ownership:

Willamette Meridian

T. 35 N., R. 4 W.,

Sec. 23, lot 4, and lot 3 excluding a parcel commencing at the Meander Corner of the East line of said section 23 which lies 387.5 feet more or less South 0° 12´ West from the one quarter of said section 23; Thence North 0° 12´ East 1140 feet along the East line of said section 23 to a point; Thence North 89° 48´ West 1030 feet to the true point of beginning; Thence North 89° 48´ West 35 feet more or less to the high water line of Haro Straight; Thence Southerly and Easterly along the said high water line to a point which bears due South of the true point of beginning; Thence North 400 feet more or less to the true point of beginning.

The area described contains approximately 36.32 acres, more or less, in San Juan County.

The areas described in (a) and (b) above aggregate 37.32 acres in San Juan County.

Dated: September 13, 2010.
Wilma A. Lewis,
Assistant Secretary—Land and Minerals Management.

[FR Doc. 2010-24284 Filed 9-27-10; 8:45 am]

BILLING CODE 4310-33-P